DEPARTMENT OF TRANSPORTATION

Federal Railroad Administration

Proposed Agency Information Collection Activities; Comment Request

AGENCY: Federal Railroad Administration, DOT.

ACTION: Notice and request for comments.

SUMMARY: In compliance with the Paperwork Reduction Act of 1995 (44 U.S.C. 3501 et seq.), this notice announces that the Information Collection Requirements (ICRs) abstracted below have been forwarded to the Office of Management and Budget (OMB) for review and comment. The ICRs describes the nature of the information collections and their expected burdens. The Federal Register notice with a 60-day comment period soliciting comments on the following collections of information was published on December 14, 2005 (70 FR 74103).

DATES: Comments must be submitted on or before March 27, 2006.

FOR FURTHER INFORMATION CONTACT: Mr. Robert Brogan, Office of Planning and Evaluation Division, RRS-21, Federal Railroad Administration, 1120 Vermont Ave., NW., Mail Stop 17, Washington, DC 20590 (telephone: (202) 493-6292), or Mr. Victor Angelo, Office of Information Technology and Productivity Improvement, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR Part 1320, require Federal agencies to issue two notices seeking public comment on information collection activities before OMB may approve paperwork packages. 44 U.S.C. 3506, 3507; 5 CFR 1320.5, 1320.8(d)(1), 1320.12. On December 14, 2005, FRA published a 60-day notice in the Federal Register soliciting comment on ICRs that the agency was seeking OMB approval. 70 FR 74103. FRA received two comments in response to this notice. Both parties commenting expressed their support for the information collection activities associated with the requirements of FRA's accident/incident regulation.

In the first comment, the Chief Statistician of the U.S. Department of Commerce's Bureau of Economic Analysis (BEA), Dennis Fixler, remarked:

The Bureau of Economic Analysis (BEA) strongly supports the continued collection of data by the Federal Railroad Administration on the Accident/Incident Reporting and Recordkeeping forms. The data collected on these forms are crucial to key components of BEA's economic statistics. BEA uses data collected on these forms to prepare estimates of the employee compensation component of national income and State personal income. Specifically, data on the number of employee injuries and deaths from forms F 6180.55 and F 6180.55a, Railroad Injury and Illness Summary, are used to prepare estimates of workers' compensation for the railroad industry. These same data by State are used to prepare estimates of workers' compensation for the railroad industry by State.

In the second comment, the Vice President of the Brotherhood of Locomotive Engineers and Trainmen (BLET), Raymond Holmes, stated his organization's support for the collection of information and requested the revision of certain accident./incident forms to collect additional information. He observed:

BLET supports the full range of information collection encompassed under OMB Control Number 2130-0500. However, BLET believes the revision of certain of FRA's forms to require railroads to provide additional information already in their possession will enhance the safety data available to FRA and facilitate more precise analyses of trends in the industry. Specifically, BLET is concerned that exclusive reliance on mileage-based data in developing accident/incident and injury casualty rates already has compromised the quality of analysis of switching operations. Furthermore, * * * the narrow focus on mileage-based data also may infect data analysis for other freight operations in the future, because mileage-based measures fail to reflect the ongoing evolution of remote control locomotive operations (‘RCL’) throughout the American railroad industry.

Mr. Holmes further noted that “ * * * on the FRA form that captures operational data and accident/incident counts for the reporting month, Form F 6180.55, only mileage data—and not labor hour data—is required to be broken down by subcategory.” He added:

* * * it is now long overdue that FRA broaden its information collection to require railroads to report the number of employee hours spent in each of the various classes of service (i.e., road, yard, passenger, other), just as they currently report miles in each of these classes. Contemporary industry computer systems, which typically track both pay and hours of service, already capture this data, and the information should be easily retrievable.

Mr. Holmes comments—on behalf of the BLET—touch an area that has been a cause of concern for sometime for FRA. FRA believes that very important issues have been raised in BLET's comments. FRA strives to obtain the most accurate possible data so that it has a clear and complete picture of what is happening in the rail industry on both a current and historical basis. Accurate data are essential in developing and implementing an effective comprehensive rail safety program throughout the country. In the agency's view, the issues raised by BLET need to be looked into carefully. FRA would like to examine these issues by initiating an independent study sometime this year, budget permitting. Such a study raises procurement as well as budget issues that will need to addressed. Also, there will be cooperation issues, and FRA will need to ensure full cooperation with any contractor chosen for such an important study. If funding for this study can not be found in this year's budget, then FRA will attempt to obtain such funding in next year's budget. Once the independent study is completed, FRA will be able to determine any needed changes.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describes the nature of the information collection requirements (ICRs) and the expected burden. The proposed requirements are being submitted for clearance by OMB as required by the PRA.

Title: Accident/Incident Reporting and Recordkeeping.

OMB Control Number: 2130-0500.

Type of Request: Extension of a currently approved collection.

Affected Public: Railroads.

Form(s): FRA F 6180.54/55/55A/56/57/78/81/97/98/99/107.

Abstract: The collection of information is due to the railroad accident reporting regulations set forth in 49 CFR Part 225 which require railroads to submit monthly reports summarizing collisions, derailments, and certain other accidents/incidents involving damages above a periodically revised dollar threshold, as well as certain injuries to passengers, employees, and other persons on railroad property. Because the reporting requirements and the information needed regarding each category of accident/incident are unique, a different form is used for each category.

Annual Estimated Burden Hours: 46,021 hours.

ADDRESSES: Send comments regarding these information collections to the Office of Information and Regulatory Affairs, Office of Management and Budget, 725 Seventeenth Street, NW., Washington, DC, 20503, Attention: FRA Desk Officer.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC on February 16, 2006.
D.J. Stadtler,
Director, Office of Budget, Federal Railroad Administration.

[FR Doc. E6-2547 Filed 2-22-06; 8:45 am]

BILLING CODE 4910-06-P